DEPARTMENT OF TRANSPORTATION

Coast Guard

[USCG-2001-9761]

Chemical Transportation Advisory Committee

AGENCY: Coast Guard, DOT.

ACTION: Notice of meeting.

SUMMARY: The Subcommittee of the Chemical Transportation Advisory Committee (CTAC) on Vessel Cargo Tank Overpressurization will meet to continue their review of current industry practices and procedures involving the introduction of pressurized nitrogen gas from waterfront facilities to a marine vessel's cargo tanks during inerting, padding, purging, and line clearing operations. As a result of this meeting, and subsequent meetings as deemed necessary by the Chairman, this Subcommittee will develop recommendations to prevent the occurrence of cargo tank overpressurization incidents. This meeting will be open to the public.

DATES: The Subcommittee will meet on Wednesday, June 13, 2001, from 9 a.m. to 4 p.m. This meeting may close early if all business is finished. Written material and requests to make oral presentations should reach the Coast Guard on or before June 6, 2001. Requests to have a copy of your material distributed to each member of the Subcommittee should reach the Coast Guard on or before June 6, 2001.

ADDRESSES: The Subcommittee will meet at the Adam's Mark Hotel, 2900 Briarpark Drive, Houston, Texas. Send written material and requests for a copy of the Subcommittee's task statement or to make oral presentations to Lieutenant Michael McKean, Coast Guard Technical Representative for the Subcommittee, Commandant (G-MSO-3), U.S. Coast Guard Headquarters, 2100 Second Street SW., Washington, DC 20593-0001.

FOR FURTHER INFORMATION CONTACT: Lieutenant Michael McKean, Coast Guard Technical Representative for the Subcommittee, telephone 202-267-0087, fax 202-267-4570.

SUPPLEMENTARY INFORMATION: Notice of this meeting is given under the Federal Advisory Committee Act, 5 U.S.C. App. 2.

Agenda of Meeting

The agenda of the CTAC Subcommittee on Vessel Cargo Tank Overpressurization includes the following:

(1) Introduction of Subcommittee members and attendees.

(2) Brief overview of Subcommittee tasking and desired outcome.

(3) Review of definitions of technical terms.

(4) Review of hazards associated with high-pressure nitrogen and low-pressure vessels.

(5) Discuss criteria for evaluating solutions.

(6) Discuss existing procedures.

(7) Discuss potential solutions.

(8) Discuss final product format and plan for future work.

Procedural

The meeting is open to the public. Please note that the meeting may close early if all business is finished. All attendees at the meeting are encouraged to fully review the Subcommittee's task statement prior to the meeting. Copies of the Subcommittee's task statement can be obtained from Lieutenant Michael McKean, telephone 202-267-0087, fax 202-267-4570. It is also available from the CTAC Internet Website at: www.uscg.mil/hq/g-m/advisory/ctac. At the discretion of the Subcommittee Chair, members of the public may make oral presentations during the meeting. If you would like to make an oral presentation at the meeting, please notify the Coast Guard Technical Representative to the Subcommittee and submit written material on or before June 6, 2001. If you would like a copy of your material distributed to each member of the Subcommittee in advance of a meeting, please submit 25 copies to the Coast Guard Technical Representative to the Subcommittee no later than June 6, 2001.

Information on Services for Individuals With Disabilities

For information on facilities or services for individuals with disabilities, or to request special assistance at the meeting, contact the Coast Guard Technical Representative for the Subcommittee as soon as possible.

Dated: May 25, 2001.
Joesph J. Angelo,
Director of Standards, Marine Safety and Environmental Protection.

[FR Doc. 01-13703 Filed 5-31-01; 8:45 am]

BILLING CODE 4910-15-U